DEPARTMENT OF TRANSPORTATION

Federal Railroad Administration

[Docket No. FRA-2017-0002-N-5]

Proposed Agency Information Collection Activities; Comment Request

AGENCY: Federal Railroad Administration (FRA), U.S. Department of Transportation.

ACTION: Notice and request for comments.

SUMMARY: Under the Paperwork Reduction Act of 1995 (PRA) and its implementing regulations, FRA seeks approval of the proposed information collection activities listed below. Before submitting these information collection requests (ICR) to the Office of Management and Budget (OMB) for approval, FRA is soliciting public comment on specific aspects of the activities identified below.

DATES: Comments must be received no later than May 15, 2017.

ADDRESSES: Submit written comments on the information collection activities by mail to either: Mr. Robert Brogan, Information Collection Clearance Officer, Office of Railroad Safety, Regulatory Analysis Division, RRS-21, Federal Railroad Administration, 1200 New Jersey Avenue SE., Mail Stop 25, Washington, DC 20590; or Ms. Kim Toone, Information Collection Clearance Officer, Office of Information Technology, RAD-20, Federal Railroad Administration, 1200 New Jersey Avenue SE., Mail Stop 35, Washington, DC 20590. Commenters requesting FRA to acknowledge receipt of their respective comments must include a self-addressed stamped postcard stating, “Comments on OMB Control Number 2130-XXXX,” (the relevant OMB control number for each ICR is listed below) and should also include the title of the ICR. Alternatively, comments may be faxed to (202) 493-6216 or (202) 493-6497, or emailed to Mr. Brogan at Robert.Brogan@dot.gov, or Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Analysis Division, RRS-21, Federal Railroad Administration, 1200 New Jersey Avenue SE., Mail Stop 25, Washington, DC 20590 (telephone: (202) 493-6292) or Ms. Kim Toone, Information Collection Clearance Officer, Office of Information Technology, RAD-20, Federal Railroad Administration, 1200 New Jersey Avenue SE., Mail Stop 35, Washington, DC 20590 (telephone: (202) 493-6132). (These telephone numbers are not toll free.)

SUPPLEMENTARY INFORMATION:

The PRA, 44 U.S.C. 3501-3520, and its implementing regulations, 5 CFR part 1320, require Federal agencies to provide 60-days' notice to the public to allow comment on information collection activities before seeking OMB approval of the activities. See 44 U.S.C. 3506(c)(2)(A); 5 CFR 1320.8(d)(1), 1320.10(e)(1), 1320.12(a). Specifically, FRA invites interested parties to comment on the following summary of proposed information collection activities regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public by automated, electronic, mechanical, or other technological collection techniques and other forms of information technology (e.g., permitting electronic submission of responses). See 44 U.S.C. 3506(c)(2)(A); 5 CFR 1320.8(d)(1).

FRA believes that soliciting public comment will promote its efforts to reduce the administrative and paperwork burdens associated with the collection of information that Federal regulations mandate. In summary, FRA reasons that comments received will advance three objectives: (1) Reduce reporting burdens; (2) ensure that it organizes information collection requirements in a “user-friendly” format to improve the use of such information; and (3) accurately assess the resources expended to retrieve and produce information requested. See 44 U.S.C. 3501.

Below is a brief summary of currently approved information collection activities that FRA will submit for OMB renewed or revised clearance as the PRA requires:

Title: Hours of Service Regulations.

OMB Control Number: 2130-0005.

Abstract: On August 12, 2011, FRA amended its hours of service recordkeeping regulations, to add a new 49 CFR part 228, subpart F, providing substantive hours of service requirements, including maximum on-duty periods, minimum off-duty periods, and other limitations, for train employees (e.g., locomotive engineers and conductors) providing commuter and intercity rail passenger transportation. See 76 FR 50359. The regulations require railroads to evaluate work schedules for risk of employee fatigue and implement measures to mitigate the risk, and to submit to FRA for its approval the relevant schedules and fatigue mitigation plans. This regulation also made corresponding changes to FRA's hours of service recordkeeping regulations to require railroads to keep hours of service records and report excess service to FRA in a manner consistent with the new requirements. This regulation was mandated by the Rail Safety Improvement Act of 2008 (Pub. L. 110-432, Division A). FRA uses the information collected under this rule to ensure compliance with the requirements of the regulation. In particular, FRA uses the information collected as a result of new subpart F to verify the train employees of commuter and intercity passenger railroads do not exceed maximum on-duty periods, abide by minimum off-duty periods, and adhere to other limitations in this regulation, to enhance rail safety and reduce the risk of accidents/incidents caused or contributed to by train employee fatigue.

Form Number(s): FRA F 6180.3.

Affected Public: Businesses.

Respondent Universe: 768 railroads/signal contractors.

Frequency of Submission: On occasion/monthly.

Reporting Burden:

CFR section | Respondent universe | Total annual responses | Average time per response | Total annual burden hours
228.11—Hours of duty records—train & engine employees (electronic records); train & engine employees (paper records: Dispatchers' (paper records); signalmen (paper records) | 768 railroads/signal contractors | 12,318,750 records + 10,293,000 records + 876,000 records + 3,942,000 records | 2 min./10 min./5 min./10 min | 2,856,125
228.17—Dispatcher's records of train movements | 150 dispatch offices | 200,750 records | 3 hours | 602,250
228.19—Monthly reports of excess service | 300 railroads | 2,670 reports | 2 hours | 5,340
228.103—Construction of employee sleeping quarters—petitions to allow construction near work area | 50 railroads | 1 petition | 16 hours | 16
228.207—Training in use of electronic system—initial training | 768 railroads/signal contractors | 47,000 trained-employees | 1 hour | 47,000
49 U.S.C. 21102(b)—Petitions for exemption from hours of service laws | 10 railroads | 2 petitions | 10 hours | 20
228.407—RR analysis of one cycle of work schedules—submission to FRA | 168 railroads | 2 analyses | 20 hours | 40
—Reports to FRA of work schedules that violate fatigue threshold | 168 railroads | 1 report | 2 hours | 2
—Fatigue mitigation plans submitted to FRA | 168 railroads | 1 plan | 4 hours | 4
—Submission of work schedules, proposed fatigue mitigation tools, & determination of operational necessity corrected document | 168 railroads | 1 document | 2 hours | 2
—Analysis of certain later changes in work schedules. Follow-up analysis | 168 railroads | 5 analyses | 4 hours | 20
—Submission of corrected document for FRA disapproved work schedule | 168 railroads | 1 document | 2 hours | 2
—RR development & adoption of written fatigue mitigation plan for any work scheduler identified through analysis in paragraphs (a) or (d) of this section | 168 railroads | 8 updated written plans | 4 hours | 32
—RR consultation with employees on: Work schedules found to be at risk for fatigue level that compromises safety; railroad's selection of fatigue migitation tools; and all submissions seeking FRA approval | 168 railroads | 5 consultations | 2 hours | 10
—Filed statements with FRA by employees and employee organizations unable to reach consensus with railroad on work schedules or mitigation tools | railroad employees/employee organizations | 2 statements | 2 hours | 4
228.411—Developing training programs | 168 railroads | 14 programs | 5 hours | 70
—New employees initial training | 168 railroads | 150 employees | 1 hour | 150
—Refresher training | 168 railroads | 3,400 trained employees | 1 hour | 3,400
—Records of Training | 168 railroads | 3,550 records | 5 minutes | 296
—Written Declaration by Tourist Railroads for Exclusion from This Section's Requirements | 140 railroads | 2 written declarations | 1 hour | 2
—Appendix D: Guidance on fatigue management plan—updated plans | 168 railroads | 2 plans | 10 hours | 20

Total Estimated Annual Responses: 27,687,317.

Total Estimated Annual Burden: 3,514,805 hours.

Type of Request: Extension of a Currently Approved Collection.

Title: Reflectorization of Freight Rolling Stock.

OMB Control Number: 2130-0566.

Abstract: FRA issued this regulation to mandate the reflectorization of freight rolling stock (using retroreflective material on freight cars and locomotives) to enhance the visibility of trains to reduce the number and severity of accidents at highway-rail grade crossings where visibility was a contributing factor. See 70 FR 144, Jan. 3, 2005. FRA uses the information collected to verify that the railroad person responsible for the car reporting mark is notified after the required visual inspection when the freight equipment has less than 80 percent of the required retroreflective sheeting present, undamaged, or unobscured. Further, FRA uses the information collected to verify that the required locomotive records of retroreflective sheeting defects found after inspection are kept in the locomotive cab or in a railroad accessible electronic database FRA can access upon request. Finally, FRA uses the information collected to confirm that railroads/car owners meet the prescribed standards for the inspection and maintenance of the required retroreflective material.

Form Number(s): FRA F 6180.113.

Affected Public: Businesses.

Respondent Universe: 716 railroads/car owners.

Frequency of Submission: On occasion/monthly.

Reporting Burden:

CFR section | Respondent universe | Total annual responses | Average time per response | Total annual burden hours
224.7—Waivers | 716 railroads/freight car owners | 20 petitions | 1 hour | 20
224.15—Petitions for special approval of alternative standard | 2 manufacturers | 12 petitions | 40 hours | 480
—Public comment on special approval procedures | 2 manufacturers/railroads/general public | 3 comment | 1 hour | 3
224.109—RR notification to person responsible for reporting mark after visual inspection for presence and condition when freight car on either side has less than 80% reflective sheeting of the damaged, obscured, or missing sheeting | AAR/300 car shops | 131,619 notices | 2 minutes | 4,387
—locomotives record of freight retroreflective sheeting defects found after inspection kept in locomotive cab or in railroad accessible electronic database that FRA can access upon request | 716 railroads/freight car owners (24,707 locomotives) | 2,471 records | 3 minutes | 124

Total Estimated Annual Responses: 134,125.

Total Estimated Annual Burden: 5,014 hours.

Type of Request: Revision of a Currently Approved Collection.

Title: Railroad Safety Appliance Standards.

OMB Control Number: 2130-0594.

Abstract: FRA amended the regulations for safety appliance arrangements on railroad equipment on April 28, 2011. See 76 FR 23714. The amendments are intended to promote the safe placement and securement of safety appliances on rail equipment by establishing a process for the review and approval of existing industry standards. This process permits railroad industry representatives to request approval of existing industry standards for the safety appliance arrangements on newly constructed railroad cars, locomotives, tenders, or other rail vehicles, in lieu of the provisions in 49 CFR part 231. This special approval process enhances railroad safety by allowing FRA to consider technological advancements and ergonomic design standards for new car construction. It ensures that modern rail equipment complies with applicable statutory and safety-critical regulatory requirements related to safety appliances while providing the flexibility to efficiently address safety appliance requirements on new designs for railroad cars, locomotives, tenders, or other rail vehicles. FRA uses the information collected under this regulation to better serve the goal of adapting to changes in modern rail car design while facilitating statutory and regulatory compliance.

Form Number(s): N/A.

Affected Public: Businesses.

Respondent Universe: 734 railroads/labor unions/general public.

Frequency of Submission: On occasion.

Reporting Burden:

CFR section | Respondent universe | Total annual responses | Average time per response | Total annual burden hours
231.33—Procedure for special approval of existing industry safety appliance standards—filing of petitions | AAR (industry rep.) | 100 petitions | 160 hours | 16,000
—Affirmative statement by petitioner that a petition copy has been served on rep. of employees responsible for equipment's operation/inspection/testing/maintenance | AAR (industry rep.) | 100 statements | 30 minutes | 50
—Service of each special approval petition on parties designated in section 231.33(c) | AAR (industry rep.) |  | 15 minutes | 283
—Statement of interest in reviewing special approval filed with FRA | 5 rail labor unions/general public | 1,130 petition copies | 8 hours | 2,400
—Comments on petitions for special approval | 728 railroads/5 labor groups/general public | 300 statements | 10 hours | 1,500
—Disposition of petitions: petition returned by FRA requesting additional information | AAR (industry rep.) | 150 comments | 6 hours | 18
231.35-Procedure for modification of an approved industry safety appliance standard for new car construction—filing of petitions | AAR (industry rep.) | 24 petitions for modification | 160 hours | 3,840
—Affirmative statement by petitioner that a petition copy has been served on rep. of employees responsible for equipment's operation/inspection/testing/maintenance | AAR (industry rep.) | 24 statements | 30 minutes | 12
—Service of each special approval petition on parties designated in section 231.35(b) | AAR (industry rep.) | 2,712 petition | 2 hours | 5,424
—Statement of Interest in Reviewing Special Approval Filed with FRA | 5 rail labor unions/general public | 72 statements | 8 hours |
—Comments on petitions for modification | 744 railroads/5 labor unions/general public | 36 comments | 10 hours |
—FRA review of petition for modification; agency objection and AAR response | AAR (industry rep.) | 4 additional documents | 6 hours | 24

Total Estimated Annual Responses: 4,655.

Total Estimated Annual Burden: 30,487 hours.

Type of Request: Extension of a Currently Approved Collection.

Under 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Sarah L. Inderbitzin,
Acting Chief Counsel.

[FR Doc. 2017-05048 Filed 3-13-17; 8:45 am]

BILLING CODE 4910-06-P